DEPARTMENT OF HOMELAND SECURITY

8 CFR Parts 216 and 245

[CIS No. 2484-09; Docket No. USCIS-2009-0029]

RIN 1615-AA90

Treatment of Aliens Whose Employment Creation Immigrant (EB-5) Petitions Were Approved After January 1, 1995 and Before August 31, 1998; Correction

AGENCY: U.S. Citizenship and Immigration Services, DHS.

ACTION: Proposed rule; correction.

SUMMARY: The Department of Homeland Security corrects an inadvertent error contained in the proposed rule titled Treatment of Aliens Whose Employment Creation Immigrant (EB-5) Petitions Were Approved After January 1, 1995 and Before August 31, 1998 published in the Federal Register on September 28, 2011. The docket number referenced in the proposed rule should read “DHS Docket No. USCIS-2009-0029”.

DATES: You must submit written comments on or before November 28, 2011.

FOR FURTHER INFORMATION CONTACT: Alexandra Haskell, Adjudications Officer, Business, Employment and Trade Services, Service Center Operations, U.S. Citizenship and Immigration Services, Department of Homeland Security, 20 Massachusetts Avenue, NW., Mailstop 2060, Washington, DC 20259-2060, telephone (202) 272-8410.

SUPPLEMENTARY INFORMATION:

Need for Correction

On September 28, 2011, the Department of Homeland Security published a proposed rule in the Federal Register at 76 FR 59927 proposing to amend its regulations governing the employment creation (EB-5) immigrant classification. There was an inadvertent error in the document. The docket number referenced should be changed to read “DHS Docket No. USCIS-2009-0029” instead of “DHS Docket No. DHS-2009-0029”.

Dated: September 28, 2011.
Sunday Aigbe,
Chief Regulatory Products Division, Office of the Executive Secretariat, U.S. Citizenship and Immigration Services, Department of Homeland Security.

[FR Doc. 2011-25463 Filed 10-3-11; 8:45 am]

BILLING CODE 9111-97-P